DEPARTMENT OF COMMERCE

National Oceanic and Atmospheric Administration

RIN 0648-XV134

Caribbean Fishery Management Council; Public Meeting

AGENCY: National Marine Fisheries Service (NMFS), National Oceanic and Atmospheric Administration (NOAA), Commerce.

ACTION: Notice of a public meeting.

SUMMARY: The Caribbean Fishery Management Council will hold its 168th meeting in December to discuss the items contained in the agenda in the SUPPLEMENTARY INFORMATION.

DATES: The meetings will be held on December 10-11, 2019, from 9 a.m. to 5 p.m.

ADDRESSES: The meetings will be held at Hilton Ponce Golf and Casino Resort, 1150 Caribe Avenue, Ponce, Puerto Rico.

FOR FURTHER INFORMATION CONTACT: Miguel A. Rolón, Caribbean Fishery Management Council, 270 Muñoz Rivera Avenue, Suite 401, San Juan, Puerto Rico 00918-1903, telephone: (787) 766-5926.

SUPPLEMENTARY INFORMATION:

December 10, 2019, 9 a.m.-12 Noon

○ Call to Order

○ Adoption of Agenda

○ Consideration of 166th Council Meeting Verbatim Transcriptions and 167th Webinar Meeting

○ Executive Director's Report

○ SSC Report (October 29-31, 2019 meeting)

○ Fishery Ecosystem Plan Update—Graciela García-Moliner

December 10, 2019, 12 Noon-1:30 p.m.

○ Lunch break

December 10, 2019, 1:30 p.m.-5 p.m.

○ Review of Pertinent State and Federal Management Regulations in USVI

—Spiny Lobster Control Date

—Spiny Lobster Project—Tony Iarocci

○ New Fishers Association St. Thomas/St. John—Ruth Gómez

Public Comment Period—(5-minute presentations)

December 10, 2019, 5:15 p.m.-6 p.m.

○ Administrative Issues

○ Closed Session

December 11, 2019, 9 a.m.-12 Noon

○ Highly Migratory Species Update—Randy Blankinship

○ Red Hind Studies—Carlos Zayas

○ Queen Triggerfish Biological Studies—Jesús Rivera Hernández

○ Oceanographic Connectivity Studies USVI/PR—Jorge Capella

○ Outreach and Education Report—Alida Ortiz

December 11, 2019, 12 Noon-1:30 p.m.

○ Lunch Break

December 11, 2019, 1:30 p.m.-5 p.m.

○ Portrait of Puerto Rico's Commercial Fisheries Two Years After the Impact of Hurricane María—Daniel Matos Caraballo

○ SEAMAP-C PR Update with the Use of Underwater Video Images for Fish Counts and Habitat Description—Verónica Seda Matos

○ Histological Validation of Visual sex Determination for Reef Fish Species—Noemí Peña Alvarado

○ Ciguatera Studies Report

○ Enforcement Issues:

—Puerto Rico-DNER

—USVI-DPNR

—U.S. Coast Guard

—NMFS/NOAA

○ MREP Meeting—Graciela García-Moliner/Vanessa Ramírez

○ Other Business

Public Comment Period—(5-minute presentations)

The order of business may be adjusted as necessary to accommodate the completion of agenda items. The meeting will begin on December 10, 2019 at 9 a.m. Other than the start time, interested parties should be aware that discussions may start earlier or later than indicated. In addition, the meeting may be extended from, or completed prior to the date established in this notice.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico 00918-1903, telephone: (787) 766-5926, at least 5 days prior to the meeting date.

Dated: November 14, 2019.
Tracey L. Thompson,
Acting Deputy Director, Office of Sustainable Fisheries, National Marine Fisheries Service.

[FR Doc. 2019-25051 Filed 11-18-19; 8:45 am]

BILLING CODE 3510-22-P